DEPARTMENT OF TRANSPORTATION

Federal Motor Carrier Safety Administration

[Docket No. FMCSA-2017-0313]

Agency Information Collection Activities; Approval of a New Information Collection Request: Driver Commuting Practices Survey

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval.

FMCSA proposes a voluntary survey to inquire about driver commuting practices to fulfill Section 5515 of the Fixing America's Surface Transportation Act, 2015 (FAST Act), which requires FMCSA to conduct a study on the safety effects of motor carrier operator commutes exceeding 150 minutes. The FMCSA Administrator is then required to submit a report to Congress containing the findings of the study. There are no current or future planned regulations associated with this survey, nor does FMCSA plan to actively track driver commutes to obtain data.

The survey proposed within this ICR is entirely voluntary, and would gather information on the prevalence of excessive (greater than 150 minutes) commuting of interstate commercial motor vehicle (CMV) drivers, including the number and percentage of drivers who commute; the distances traveled, time zones crossed, time spent commuting, and methods of transportation used; the impact of excessive commuting on safety and CMV driver fatigue; and the commuting practices of CMV drivers and policies of motor carriers.

DATES: Please send your comments by June 25, 2018. OMB must receive your comments by this date in order to act quickly on the ICR.

ADDRESSES: All comments should reference Federal Docket Management System (FDMS) Docket Number FMCSA-2017-0313. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Nicole Michel, Mathematical Statistician, FMCSA's Office of Analysis, Research, and Technology's Research Division, Department of Transportation, Federal Motor Carrier Safety Administration, 6th Floor, West Building, 1200 New Jersey Avenue SE, Washington, DC 20590-0001. Telephone: 202-366-4354; Email Address: Nicole.michel@dot.gov. Office hours are from 9 a.m. to 5 p.m., Monday through Friday, except Federal Holidays.

SUPPLEMENTARY INFORMATION:

Title: Driver Commuting Practices Survey.

OMB Control Number: 2126-00XX.

Type of Request: New information collection.

Respondents: A random sample of licensed CMV operators, to include both freight operators and those with a passenger bus endorsement.

Estimated Number of Respondents: 500 CMV drivers (250 each of freight drivers and commercial passenger bus drivers).

Estimated Time per Response: The estimated average time for a driver to complete the survey is 20 minutes.

Expiration Date: N/A. This is a new information collection.

Frequency of Response: This survey requires a one-time response per CMV operator. The survey will be open for a minimum of four weeks to collect responses.

Estimated Total Annual Burden: The estimated total annual burden is 166.7 hours.

Background

On December 4, 2015, the FAST Act was signed into law (Pub. L. 114-94,129 Stat. 1312, 1557 (Dec. 4, 2015)). Section 5515 of the FAST Act directs the FMCSA Administrator to “conduct a study on the safety effects of motor carrier operator commutes exceeding 150 minutes” (subsection (a)). The Act further specifies that a report containing the findings of this study should be submitted to Congress no later than 18 months after the date of enactment of the Act (subsection (b)). FMCSA must complete this information collection to meet the specified congressional requirements set forth in the FAST Act.

Additionally, during the 114th Congress (2015-2016), legislation titled “The Truck Safety Act” was introduced. This legislation, which has not been enacted to date, provided greater context to inform study of this area (S. 1739, 114th Cong. § 7) by proposing the following:

SECTION. 7. STUDY ON COMMERCIAL MOTOR VEHICLE DRIVER COMMUTING

(a) Effects of Excessive Commuting.—The Administrator of the FMCSA shall conduct a study of the effects of excessive commuting on safety and commercial motor vehicle driver fatigue.

(b) Study.—In conducting the study, the Administrator shall consider—

(1) the prevalence of excessive driver commuting in the commercial motor vehicle industry, including the number and percentage of drivers who commute;

(2) the distances traveled, time zones crossed, time spent commuting, and methods of transportation used;

(3) research on the impact of excessive commuting on safety and commercial motor vehicle driver fatigue;

(4) the commuting practices of commercial motor vehicle drivers and policies of motor carriers;

(5) the FMCSA regulations, policies, and guidance regarding excessive driver commuting; and

(6) any other matters the Administrator considers appropriate.

In the past two decades, as the number of workers has increased and the distance to affordable housing has also increased in most metropolitan areas, commuting times have increased in the United States. According to the 2015 Urban Mobility Scorecard,¹ travel delays due to traffic congestion caused drivers to waste more than 3 billion gallons of fuel and kept travelers stuck in their cars for nearly 7 billion extra hours (42 hours per rush-hour commuter).

¹ Schrank, David; Eisele, Bill; Lomax, Tim; and Bak, Jim. (2015.) 2015 Urban Mobility Scorecard. Texas A&M Transportation Institute and Inrix, Inc., available at: http://static.tti.tamu.edu/tti.tamu.edu/documents/mobility-scorecard-2015.pdf.

Long commuting times can adversely affect CMV drivers in multiple ways, for example:

• Compromising off-duty time. Long commuting times can reduce a driver's available off-duty time for sleep and personal activities. This can lead to excessive fatigue while on duty, creating safety concerns for both the CMV driver and other drivers on the roads.

• Impacting driver health. A recent study was conducted that monitored 4,297 adults from 12 metropolitan Texas counties. In this region, 90 percent of people commute to work. The study found that the drivers who have long commuting times were more likely to have poor cardiovascular health and be less physically fit.² This study showed that people who commute long distances to work weigh more, are less physically active, and have higher blood pressure.

² Hoehner, Christine; Barlow, Carolyn; Allen, Peg; and Schootman, Mario. (2012.) Commuting Distance, Cardiorespiratory Fitness, and Metabolic Risk. American Journal of Preventive Medicine 42(6): 571-578.

The objective of the survey proposed in this ICR is to study the following CMV driver characteristics:

• Work history;

• Commuting time, transportation mode, and recording of that time;

• Driving schedules;

• Rests and breaks;

• Miles driven annually; and

• Demographics.

Safety data obtained by the Motor Carrier Information Management System (MCMIS) database will be used to determine whether there are any noticeable safety impacts corresponding to commuting times.

II. Data Collection Plan

The information collection is a one-time, Web-based collection, including surveys of current and past drivers of freight and passenger vehicles. The survey will be entirely online. There will be no paper survey. The general survey approach and design is as follows:

1. FMCSA will provide a random sample of 12,000 drivers obtained by cross-referencing a random sample of records from the Commercial Driver's License Information System (CDLIS) data with the licensing States' Commercial Driver's License (CDL) driver histories. The samples will be divided into one list for drivers who operate (or previously operated) freight vehicles and a second list for those who drive (or previously drove) passenger-carrying vehicles.

2. The sample of drivers obtained from CDLIS data will also be queried in MCMIS for safety results of these drivers; this data will be used to assess non-response bias and to compare safety records of responding drivers with their survey responses on commuting times. To the extent possible, MCMIS data may be used to try to verify whether drivers with a passenger endorsement on their CDL are, in fact, passenger bus drivers.

3. Using a mail-Web methodology, the driver commute survey will be sent out by the research team, on behalf of FMCSA, to the 12,000 selected drivers identified in step 1. These drivers will be solicited to complete an online survey, using a recruitment letter (with a $2 pre-incentive), a reminder postcard, and a second follow-up letter. The letter will inform the drivers that they will receive a check for $10 upon completion of the survey, which is expected to average 20 minutes to complete. Our initial expectation is that 4.17 percent of the 12,000 (500) will complete the survey on the Web. The burden analysis is based on this figure of 500 responses.

III. Comments Received on the 60-Day Federal Register Notice of This Proposed Information Collection Request

The Agency received 381 comments in response to this notice, of which 18 were supportive of the study, 22 were deemed not relevant to this information collection, 11 were neutral or provided information regarding the proposed topic of driver commuting, 326 were negative toward the study (one of these comments was a duplicate posting and two of the comments were second submissions from one individual), and four were suggestions for the study.

The 18 comments received in support of the information collection request focused on the impacts commuting can have on commercial drivers, and suggested it could be beneficial to look at whether a commute should be included in a driver's hours-of-service and properly accounted for. The majority of these comments came from individuals, as well as the National Transportation Safety Board, the American Academy of Sleep Medicine, and the Owner-Operator Independent Drivers Association. All parties acknowledged that longer commute times can lead to excessive fatigue, particularly for professional drivers.

The 22 comments that were deemed to be not relevant to this information collection addressed the Electronic Logging Device (ELD) mandate or the 14-hour rule in the current Hours-of-Service regulations, but did not mention or comment on driver commuting time or safety impacts. All of these comments were received from individuals.

The 11 comments received that were simply informative in nature, or neutral to the study, were submitted by individuals. The majority of these comments gave insight into these drivers' commute times and how they commute. One commenter noted that the survey was fine as long as it was voluntary and not mandated; as stated earlier in this notice, this will be a voluntary survey and each individual question on the survey will be voluntary. All survey materials will reinforce this information.

The 326 negative comments received were all from individuals (mostly drivers) and not organizations. These comments expressed that the survey is an invasion of privacy and that any attempt to regulate a commute would be equivalent to the Government telling working citizens how far they can live from work, which would be unconstitutional. Additionally, several felt that it was unfairly targeting drivers and if conducted should be expanded to the general public, as they also may have longer commuting times.

While FMCSA appreciates these views, the agency's mission is focused solely on safety of the CMV operations, and it has no authority to regulate non-CMV commuters; therefore, it does not conduct surveys of the general public unrelated to CMV safety. FMCSA is aware that the National Institute of Health is currently working on surveys relating to commuting times for other professions than commercial drivers.

None of these comments were actionable, as FMCSA has no plans, nor legal authority, to regulate non-CMV commuting distances. The survey is completely voluntary and is not intended to support a mandate or regulate driver commutes, but will help the agency gain further insights into commuting times experienced by commercial drivers.

Of the four comments that provided suggestions on the proposed information collection, three suggested that the survey should be sent to carriers and employers instead of individual drivers. FMCSA has considered this suggestion, but believes that employers and carriers would not necessarily know how long an individual employee is commuting. Every driver has a unique circumstance with their commute, and this information collection is aimed at better understanding the dynamics of individual drivers' commutes.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on May 16, 2018.
G. Kelly Regal,
Associate Administrator for Office of Research and Information Technology.

[FR Doc. 2018-11129 Filed 5-23-18; 8:45 am]

BILLING CODE 4910-EX-P